DEPARTMENT OF ENERGY

Federal Energy Regulatory Commission

[Docket No. RP04-48-000]

Portland General Electric Company; Notice of Tariff Filing

November 13, 2003.

Take notice that on November 6, 2003, Portland General Electric Company (Portland) tendered for filing a correction to its compliance filing submitted to the Commission on November 3, 2003.

Portland states that the purpose of the compliance filing was to submit its FERC gas tariff in compliance with the Commission's Order issued on October 3, 2003 in the above captioned proceeding. Portland General Electric Co., 105 FERC ¶ 61,023 (2003). Portland states that among other things, the Commission's Order required Portland to comply with the most recent version of the NAESB standards adopted by the Commission. Portland asserts that it inadvertently omitted from its tariff language changes pursuant to NAESB's WGQ recommendations RO2002 and RO2002-2 adopted by the Commission.

Portland states that the following is a list of the tariff sheets filed by Portland to comply with WGQ recommendations RO2002 and RO2002-2. Portland indicates that the tariff sheets have a proposed effective date of December 3, 2003.

Substitute Original Sheet No. 94

Substitute Original Sheet No. 95

Original Sheet No. 95A

Original Sheet No. 95B

Substitute Original Sheet No. 129

Any person desiring to protest said filing should file a protest with the Federal Energy Regulatory Commission, 888 First Street, NE., Washington, DC 20426, in accordance with 385.211 of the Commission's Rules and Regulations. All such protests must be filed in accordance with 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-filing link.

Magalie R. Salas,
Secretary.

[FR Doc. E3-00329 Filed 11-20-03; 8:45 am]

BILLING CODE 6717-01-P